NATIONAL AERONAUTICS AND SPACE ADMINISTRATION

Office of Procurement; Public Availability of the National Aeronautics and Space Administration FY 2013 Service Contract Inventory (SCI)

AGENCY: National Aeronautics and Space Administration.

ACTION: Notice of Public Availability of the FY 2013 Service Contract Inventory, PSC codes selected for FY 2013 SCI Analysis, and FY 2012 Service Contract Inventory Analysis.

SUMMARY: In accordance with Section 743 of Division C of the Consolidated Appropriations Act of 2010 (Pub. L. 111-117), the National Aeronautics and Space Administration (NASA) is publishing this notice to advise the public of the availability of its analysis of FY 2012 Service Contract Inventory and its FY 2013 Service Contract Inventory. This inventory provides information on service contract actions over $25,000 that were accomplished in FY 2013. The inventory has been developed in accordance with guidance issued on December 19, 2011, by the Office of Management and Budget's Office of Federal Procurement Policy (OFPP). NASA has posted documents associated with the Service Contract inventory, including the documents addressed above, on the NASA Office of Procurement homepage at the following link: http://www.hq.nasa.gov/office/procurement/scinventory/index.html.

Point of contact for this initiative is Craig Bowers (202) 358-2235, craig.w.bowers@nasa.gov.

William McNally,
Assistant Administrator for Procurement.

[FR Doc. 2014-07007 Filed 3-27-14; 8:45 am]

BILLING CODE 7510-01-P